DEPARTMENT OF COMMERCE

National Oceanic and Atmospheric Administration

[RTID 0648-XC737]

Western Pacific Fishery Management Council; Public Meetings

AGENCY: National Marine Fisheries Service (NMFS), National Oceanic and Atmospheric Administration (NOAA), Commerce.

ACTION: Notice of a public meeting.

SUMMARY: The Western Pacific Fishery Management Council (Council) and NMFS will convene a Western Pacific Stock Assessment Review (WPSAR) on a benchmark stock assessment of American Samoa Bottomfish Management Unit Species (BMUS).

DATES: The WPSAR meeting will be held between February 17 and February 23, 2023. For specific times and agendas, see SUPPLEMENTARY INFORMATION.

ADDRESSES: The meeting will be open to the public and held in-person at the Tradewinds Hotel in Pago Pago, American Samoa located at M779+HP9, Tafuna, Western District 96799, American Samoa. For more information on meeting location and logistics, contact the Council office at (808) 522-8220.

FOR FURTHER INFORMATION CONTACT: Kitty M. Simonds, Executive Director, Western Pacific Fishery Management Council; telephone: (808) 522-8220.

SUPPLEMENTARY INFORMATION: The WPSAR meeting will be held on February 17 to 23, 2023, and run each day from 9 a.m. to 5 p.m. Samoa Standard Time (SST) unless otherwise indicated on the agenda. Public comment periods will be provided in the agenda. The order in which agenda items are addressed may change. The closed session is for the panel reviewers to conduct their deliberations and to consolidate their recommendations. The meetings will run as late as necessary to complete scheduled business.

Agenda for the Western Pacific Stock Assessment Review Meeting

Day 1—Friday, February 17, 2023, 10 a.m.-5 p.m.

1. Welcome and Introductions

2. Objectives and Terms of Reference

3. Overview of Previous Stock Assessments and Management Framework

4. Fishery Operations for Bottomfish

5. Report out on Data Workshops

6. Data sources utilized in American Samoa Bottomfish Assessment

7. Public Comment

Day 2—Saturday, February 18, 2023, 9 a.m.-5 p.m.

8. Presentation and Review of Stock Assessment Methods and Results

9. WPSAR Review Panel Discussion and Model Run Requests

10. Public Comment

Day 3—Sunday, February 19, 2023, 9 a.m.-5 p.m.

11. WPSAR Review Panel Discussion with Presenters

Day 4—Monday, February 20, 2023, 9 a.m.-5 p.m.

12. WPSAR Review Panel Discussion with Presenters

Day 5—Tuesday, February 21, 2023, 9 a.m.-5 p.m.

13. WPSAR Review Panel Discussions with Presenters

Day 6—Wednesday, February 22, 2023, 9 a.m.-5 p.m.

14. WPSAR Review Panel Discussions with Presenters

15. WPSAR Review Panel Discussions (closed, afternoon)

Day 7—Thursday, February 23, 2023, 9 a.m.-5 p.m.

16. WPSAR Review Panel Discussions

17. Public Comment

18. WPSAR Panel Report on Review Outcomes and Recommendations

19. Adjourn

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 31, 2023.
Rey Israel Marquez,
Acting Deputy Director, Office of Sustainable Fisheries, National Marine Fisheries Service.

[FR Doc. 2023-02352 Filed 2-2-23; 8:45 am]

BILLING CODE 3510-22-P